SMALL BUSINESS ADMINISTRATION

[License No. 03/03-0275]

Enlightenment Capital Solutions SBIC Fund, L.P.; Notice Seeking Exemption Under Section 312 of the Small Business Investment Act, Conflicts of Interest

Notice is hereby given that Enlightenment Capital Solutions SBIC Fund, L.P., 4445 Willard Avenue, Suite 950, Chevy Chase, MD 20815, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Enlightenment Capital Solutions SBIC Fund, L.P. (“Licensee”) is proposing to provide financing to The Cadmus Group (“Company”) to support the Company's growth.

The proposed transaction is brought within the purview of § 107.730 of the Regulations because Enlightenment Capital Solutions Fund II, LP, Enlightenment Capital Solutions Fund II-NQ, LP, and Enlightenment Capital Solutions Fund SPV I, LP, Associates of the Licensee by virtue of Common Control as defined at § 107.50, hold a total of 11% of equity interest in Company. The Associates expect to receive a total of $26.6 million from the proposed transaction.

Therefore, the proposed transaction is considered self-deal pursuant to 13 CFR 107.730 and requires a regulatory exemption. Notice is hereby given that any interested person may submit written comments on the transaction within fifteen days of the date of this publication to Associate Administrator for Investment and Innovation, U.S. Small Business Administration, 409 Third Street SW, Washington, DC 20416.

Bailey DeVries,
Associate Administrator, Office of Investment and Innovation.

[FR Doc. 2021-19338 Filed 9-3-21; 8:45 am]

BILLING CODE P